DEPARTMENT OF HEALTH AND HUMAN SERVICES

Administration for Children and Families

[CFDA No.: 93.566, Refugee Assistance—State Administered Programs]

Office of Refugee Resettlement; Proposed Notice of Allocations to States of FY 2005 Funds for Refugee Social Services

AGENCY: Office of Refugee Resettlement (ORR), ACF, HHS.

ACTION: Proposed notice of allocations to States of FY 2005 funds for refugee social services.

SUMMARY: This notice establishes the proposed allocations to States of FY 2005 funds for refugee ¹ social services under the Refugee Resettlement Program (RRP). The final notice will reflect amounts adjusted based upon final adjustments to FY 2002, FY 2003 and FY 2004 (October 1, 2001 through September 30, 2004) data submitted to ORR by States.

¹ Eligibility for refugee social services include refugees, asylees, Cuban and Haitian entrants, certain Amerasians from Viet Nam who are admitted to the U.S. as immigrants, certain Amerasians from Viet Nam who are U.S. citizens, and victims of a severe form of trafficking who receive certification or eligibility letters from ORR, and certain other specified family members. See 45 CFR 400.43 and ORR State Letter #01-13 on the Trafficking Victims Protection Act, dated May 3, 2001, as modified by ORR State Letter #02-01, January 4, 2002, and ORR State Letter #04-12, June 18, 2004.

The term “refugee,” used in this notice for convenience, is intended to encompass such additional persons who are eligible to participate in refugee program services.

FOR FURTHER INFORMATION CONTACT: Kathy Do, Division of Budget, Policy, and Data Analysis (BPDA), telephone: (202) 401-4579, e-mail: kdo@acf.hhs.gov.

SUPPLEMENTARY INFORMATION:

I. Amounts for Allocation

The Office of Refugee Resettlement (ORR) has available (after rescission and adjustments) $164,888,000 in Fiscal Year 2005 refugee social service funds as part of the FY 2005 appropriation under the Consolidated Appropriations Act, 2005, (Pub. L. 108-447). This amount reflects a rescission of 0.008 applied across the board to all line items.

The FY 2005 Conference Report (H. Rpt. No. 108-792) reads as follows with respect to Refugee and Entrant Assistance:

“The conference agreement includes $488,336,000 for the refugee and entrant assistance programs rather than $491,336,000 as proposed by the House and $477,239,000 as proposed by the Senate * * *

The conference agreement provides $166,218,000 for social services, the same level as proposed in the House bill. The Senate had proposed $155,121,000 for this program. Within the funds provided, the conference agreement includes $19,000,000 as outlined in the House report. The conferees intend that funds provided above the request for social services shall be used for refugee school impact grants and for additional assistance in resettling and meeting the needs of the Hmong and Somali Bantu refugees expected to arrive during 2004 and 2005.

The conferees also urge the Office of Refugee Resettlement to continue supporting discretionary grant activities, such as the individual development accounts, community service employment, and elderly refugee programs to the extent they have been successful in integrating refugees into society and promoting their self sufficiency.”

The House Committee Report, H. Rpt. No. 108-636 states under Social Services:

“The Committee provides $166,218,000 for social services. This is $15,097,000 more than the budget request and $14,000,000 more than the fiscal year 2004 level. Funds are distributed by formula as well as through the discretionary grant making process for special projects. The Committee intends that funds provided above the request shall be used for Refugee School Impact Grants and for additional assistance in resettling and meeting the needs of the Hmong refugees expected to arrive during 2004 and 2005.

Within the funds provided, the Committee has included $19,000,000 for increased support to communities with large concentrations of Cuban and Haitian refugees of varying ages whose cultural differences make assimilation especially difficult, justifying a more intense level and longer duration of Federal assistance for healthcare and education.”

ORR intends to use the $164,888,000 appropriated (after rescission) for FY 2005 social services as follows:

• $77M will be allocated under the 3-year population (FYs 2002, 2003, and 2004) formula, as set forth in this notice for the purpose of providing employment services and other needed services to refugees.

• $2M will be allocated under the 3-year population formula, as a set-aside for citizenship and naturalization preparation services for the elderly.

• Approximately $17M is expected to be awarded as new social service discretionary grants under new and prior year standing competitive grant announcements issued separately from this proposed notice.

• Approximately $19M is expected to be awarded to serve communities most heavily affected by recent Cuban and Haitian entrant and refugee arrivals. These funds will be awarded under a prior year separate announcement.

• Approximately $24M is expected to be awarded through discretionary grants for continuation of awards made in prior years.

• Approximately $15M in FY 2005 social services funding will be awarded under a separate announcement for educational support to schools with a significant proportion of refugee children, consistent with previous support to schools heavily impacted by large concentrations of refugees.

• Approximately $9.6M is reserved for future distribution.

Refugee Social Service Funds

The FY 2005 population figures that have been used for this proposed formula social services allocation include refugees, Amerasians from Viet Nam, Cuban/Haitian entrants, Havana parolees, asylees, and victims of severe forms of trafficking for FYs 2002, 2003, and 2004. These population figures were adjusted in the proposed allocation to reflect more accurate information on arrivals, secondary migration (including that of victims of severe forms of trafficking), asylees, and entrant data submitted by States. (See Section IV. Basis of Population Estimates.)

The Director proposes to allocate $77,136,460 to States on the basis of each State's proportion of the national population of refugees who have been in the U.S. three years or less as of October 1, 2004 (including a floor amount for States that have small refugee populations). Of the amount proposed to be awarded, approximately $6.4 million is expected to be awarded to Wilson/Fish Alternative Projects providing social services. As previously stated, $2,000,000 will be allocated as a set-aside for citizenship and naturalization preparation services for the elderly.

The use of the 3-year population base in the allocation formula is required by section 412(c)(1)(B) of the Immigration and Nationality Act (INA) which states that “funds available for a fiscal year for grants and contracts [for social services] * * * shall be allocated among the States based on the total number of refugees (including children and adults) who arrived in the United States not more than 36 months before the beginning of such fiscal year and who are actually residing in each State (taking into account secondary migration) as of the beginning of the fiscal year.”

As established in the FY 1992 social services notice published in the Federal Register on August 29, 1991, section I, “Allocation Amounts” (56 FR 42745), a variable floor amount for States which have small refugee populations is calculated as follows: If the application of the regular allocation formula yields less than $100,000, then—

(1) A base amount of $75,000 is provided for a State with a population of 50 or fewer refugees who have been in the U.S. 3 years or less; and

(2) For a State with more than 50 refugees who have been in the U.S. 3 years or less: (a) A floor has been calculated consisting of $50,000 plus the regular per capita allocation for refugees above 50 up to a total of $100,000 (in other words, the maximum under the floor formula is $100,000); (b) if this calculation has yielded less than $75,000, a base amount of $75,000 is provided for the State.

Population To Be Served and Allowable Services

Eligibility for refugee social services includes persons who meet all requirements of 45 CFR 400.43 (see Footnote 1 on page 1 for service populations). In addition, persons granted asylum are eligible for refugee benefits and services from the date that asylum was granted (See ORR State Letter No. 00-12, effective June 15, 2000, as clarified by ORR State Letter No. 00-15, August 3, 2000). Victims of a severe form of trafficking who have received a certification or eligibility letter from ORR and certain other specified family members are eligible from the date on the certification letter (see ORR State Letter No. 01-13, May 3, 2001, as modified by ORR State Letter No. 02-01, January 4, 2002, and ORR State Letter, No.04-12, June 18, 2004).

Services to refugees must be provided in accordance with the rules of 45 CFR part 400 Subpart I—Refugee Social Services. Although the allocation formula is based on the 3-year refugee population (FYs 2002, 2003, and 2004), States may provide services to refugees who have been in the country up to 60 months (5 years), with the exception of referral and interpreter services and citizenship and naturalization preparation services for which there is no time limitation (45 CFR 400.152(b)).

Under waiver authority at 45 CFR 400.300, the Director of ORR may issue a waiver of the limitation on eligibility for social services contained in 45 CFR 400.152(b). There is no blanket waiver of this provision in effect for FY 2004. States may apply for a waiver of 45 CFR 400.152(b) in writing to the Director of ORR. Each waiver request will be reviewed based on supporting data and information provided. The Director of ORR will approve or disapprove each waiver request as expeditiously as possible.

A State must, however, have an approved State plan for the Cuban/Haitian Entrant Program or indicate in its refugee program State plan that Cuban/Haitian entrants will be served in order to use funds on behalf of entrants as well as refugees.

Allowable social services are those indicated in 45 CFR 400.154 and 400.155. Additional services not included in these sections that the State may wish to provide must be submitted to and approved by the Director of ORR as required under 45 CFR 400.155(h).

Service Priorities

In accordance with 45 CFR 400.147, States are required to provide social services to refugees in the following order of priority, except in certain individual extreme circumstances: (a) All newly arriving refugees during their first year in the U.S. who apply for services; (b) refugees who are receiving cash assistance; (c) unemployed refugees who are not receiving cash assistance; and (d) employed refugees in need of services to retain employment or to attain economic independence. In order for refugees to leave Temporary Assistance for Needy Families (TANF) quickly, States should, to the extent possible, ensure that all newly arriving refugees receive refugee-specific services designed to address the employment barriers that refugees typically face.

ORR encourages States to re-examine the range of services they currently offer to refugees. Those States that have had success in helping refugees achieve early employment may find it to be a good time to expand beyond the provision of basic employment services and address the broader needs that refugees have in order to enhance their ability to maintain financial security and to successfully integrate into the community. Other States may need to reassess the delivery of employment services in light of local economic conditions and develop new strategies to better serve the newly arriving refugee groups.

States should also be aware that ORR will make social services formula funds available to pay for social services that are provided to refugees who participate in Wilson/Fish projects which can be administered by public or private non-profit agencies, including refugee, faith-based and community organizations. Section 412(e)(7)(A) of the INA provides that:

The Secretary [of HHS] shall develop and implement alternative projects for refugees who have been in the United States less than thirty-six months, under which refugees are provided interim support, medical services, support [social] services, and case management, as needed, in a manner that encourages self-sufficiency, reduces welfare dependency, and fosters greater coordination among the resettlement agencies and service providers.

This provision is generally known as the Wilson/Fish Amendment. The Department has already issued a separate standing notice with respect to applications for such projects. The notice can be found in the Federal Register [Volume 69, FR 65, pages 17692-17700, (April 5, 2004)].

States are encouraged to consider eligible sub-recipients for formula social service funds, including public or private non-profit agencies such as, refugee, faith-based, and community organizations.

II. Comments and Response

Note: This section is reserved for discussion of comments and response in the Final Notice.

III. Allocation Formulas

Of the funds available for FY 2005 for social services, $77,136,460 is proposed to be allocated to States in accordance with the formula specified in A. below.

A. A State's allowable formula allocation is calculated as follows:

1. The total amount of funds determined by the Director to be available for this purpose; divided by

2. The total number of refugees, Cuban/Haitian entrants, parolees, and Amerasians from Viet Nam, as shown by the ORR Refugee Arrivals Data System (RADS) for FYs 2002, 2003, and 2004, and victims of severe forms of trafficking as shown by the certification and eligibility letters issued by ORR, who arrived in the United States not more than 3 years prior to the beginning of the fiscal year for which the funds are appropriated. This total also includes the total number of asylees who have been served by a State through its refugee resettlement or social services system in FYs 2002, 2003, and 2004. The resulting per capita amount is multiplied by—

3. The number of persons in item 2, above, in the State as of October 1, 2004, adjusted for estimated secondary migration.

The calculation above yields the formula allocation for each State. Minimum allocations for small States are taken into account.

IV. Basis of Population Estimates

The population estimates for the proposed allocation of funds in Fiscal Year 2005 for the formula social service allocation are based on data on refugee arrivals for FYs 2002, 2003, and 2004 from the ORR Refugee Arrivals Data System (RADS), adjusted as of September 30, 2004, for estimated secondary migration. The data base includes refugees of all nationalities, Amerasians from Viet Nam, Cuban and Haitian entrants, Havana parolees, asylees, and trafficking victims. Data on the number of asylees who have been served in FYs 2002, 2003, and 2004 through the refugee resettlement program or social service system are provided by States. Data on trafficking victims are taken from the total number of trafficking victims' certification and eligibility letters issued by ORR.

Consistent with States' requests, in Fiscal Year 2005, ORR implemented a new voluntary process for data submission by States prior to issuance of the proposed allocations in an effort to minimize adjustments of final allocations. Prior to the publication of the proposed notice, the request for voluntary data submission was sent to States via e-mail on December 20, 2004 with a due date of February 8, 2005. States were requested to follow the standardized EXCEL format suggested by ORR to submit the data on asylees, entrants, and/or family members of victims of a severe form of trafficking served during FY 2004. Data for each population group was to be submitted separately on an EXCEL spreadsheet. The spreadsheet(s) was due at ORR on February 8, 2005, as an attachment to an e-mail to: lbussert@acf.hhs.gov. States that did not respond to the December 20, 2004 request are hereby notified that ORR will accept data from States in response to this proposed social services notice. Data to be submitted by States will be verified by ORR against the ORR arrival database (RADS), and adjustments may be included, as a result of this process, in the final notice of social service allocation for FY 2005. Deadline for submission of data or comments to ORR is 30 days from publication of this proposed notice. This is the final opportunity for States to submit data to ORR on the number of asylees, entrants or family members of trafficking victims served during FY 2004. The EXCEL format for data submission is available from Kathy Do by e-mail at Kdo@acf.hhs.gov.

As previously stated, ORR proposed formula social service allocations for the States for FY 2005 are based on the numbers of refugee arrivals, Amerasians, entrants, Havana parolees, asylees, and victims of a severe form of trafficking. Refugee numbers are based upon the arrivals during the preceding FYs 2002, 2003, and 2004 adjusted as of September 30, 2004, for estimated secondary migration. The proposed allocations also reflect adjustments for family members of victims of severe forms of trafficking served in FY 2004, and asylees who have been served by the States in FYs 2002, 2003, and 2004 through the refugee resettlement program or social service system. Data on Havana parolees who entered the U.S. through a controlled process at the Port of Miami are also included in the proposed allocations. Data on entrants includes information on those who arrived in the U.S. through Miami, data on entrants submitted by States on entrants who arrived in the U.S. through a land border or port of entry other than Miami, and information on those who have migrated from southern Florida and are receiving services in another State.

The data on secondary migration are based on data submitted by all participating States on Form ORR-11 on refugee secondary migrants who have resided in the U.S. for 36 months or less, as of September 30, 2004. The total migration reported by each State was due to ORR on January 5, 2005. Asylees and victims of trafficking data are not captured on the Form ORR-11, therefore, State's data on asylees, victims of trafficking and their family members accessing benefits and services are used to ensure current information for allocations purposes. The total migration data from Form ORR-11 is summed, yielding in- and out-migration figures and a net migration figure for each State. The net migration figure is applied to the State's total arrival figure, resulting in a revised ORR population estimate. ORR calculations are developed separately for refugees and entrants and then combined into a total proposed 3-year refugee/entrant population for each State. Eligible Amerasians are included in the refugee figures. Havana parolees (HP's) are enumerated in a separate column in Table 1, below, because they are tabulated separately from other entrants. Havana parolee arrivals for all States are based on actual data.

Table 1 (attached) shows the estimated 3-year populations, as of October 1, 2004, of refugees (col. 1), entrants (col. 2), asylees (col. 3), Havana parolees (col.4), victims of trafficking (col. 5), total population, (col. 6), the proposed formula amounts which the population yields (col. 7), proposed allocation (col. 8), elderly set-aside (col. 9), and total proposed allocations (col. 10).

V. Proposed Allocation Amounts

Funding subsequent to the publication of this proposed notice will be contingent upon the submission and approval of a State annual services plan that is developed on the basis of a local consultative process, as required by 45 CFR 400.11(b)(2) in the ORR regulations.

Table 1, attached, represents the FY 2005 proposed social service formula allocations.

VI. Paperwork Reduction Act

This notice does not create any reporting or record keeping requirements requiring OMB clearance.

Dated: May 19, 2005.
Nguyen Van Hanh,
Director, Office of Refugee Resettlement.

Table 1.—Estimated Three-Year Refugee/Entrant/Asylee/Parolee/Trafficking Victim Populations of States Participating in the Refugee Resettlement Program and Proposed Social Service Formula Allocations for FY 2005 (Adjusted for Secondary Migration Based on the ORR-11)
[Proposed FY 2005 Social Services Formula Notice]
State | Refugees ¹ | Entrants | Asylees ² | Havana parolees ³ | Trafficking victims | Total population | Proposed formula amount | Proposed allocation | Elderly Set-aside | Total proposed allocation
Alabama ⁴ | 120 | 0 | 0 | 23 |  | 143 | 61,999 | 90,321 | 2,342 | 92,663
Alaska ⁴ | 102 | 0 | 31 | 0 |  | 133 | 57,663 | 85,985 | 2,229 | 88,214
Arizona | 3,564 | 510 | 258 | 14 | 7 | 4,353 | 1,887,272 | 1,887,272 | 48,933 | 1,936,205
Arkansas | 9 | 1 | 5 | 1 |  | 16 | 6,937 | 75,000 | 1,945 | 76,945
California ⁴ | 14,773 | 26 | 3,406 | 79 | 64 | 18,348 | 7,954,897 | 7,954,895 | 206,254 | 8,161,149
Colorado ⁴ | 1,677 | 1 | 199 | 9 |  | 1,886 | 817,688 | 817,688 | 21,201 | 838,889
Connecticut | 959 | 12 | 103 | 30 |  | 1,104 | 478,646 | 478,646 | 12,410 | 491,056
Delaware | 87 | 5 | 0 | 0 |  | 92 | 39,887 | 75,000 | 1,945 | 76,945
Dist. of Columbia | 0 | 0 | 579 | 1 | 3 | 583 | 252,763 | 252,763 | 6,554 | 259,317
Florida | 6,911 | 11,272 | 7,806 | 30,591 | 27 | 56,607 | 24,542,335 | 24,542,335 | 636,336 | 25,178,671
Georgia | 4,312 | 15 | 331 | 119 | 5 | 4,782 | 2,073,267 | 2,073,267 | 53,756 | 2,127,023
Hawaii | 12 | 0 | 0 | 0 | 8 | 20 | 8,671 | 75,000 | 1,945 | 76,945
Idaho ⁴ | 819 | 2 | 0 | 1 | 3 | 825 | 357,684 | 357,684 | 9,274 | 366,958
Illinois | 3,019 | 14 | 0 | 63 | 13 | 3,109 | 1,347,927 | 1,347,927 | 34,949 | 1,382,876
Indiana | 773 | 1 | 0 | 12 |  | 786 | 340,775 | 340,775 | 8,836 | 349,611
Iowa | 1,122 | 0 | 6 | 0 |  | 1,128 | 489,052 | 489,052 | 12,680 | 501,732
Kansas | 263 | 0 | 0 | 11 |  | 274 | 118,794 | 118,794 | 3,080 | 121,874
Kentucky ⁴ | 1,243 | 1,284 | 36 | 31 | 1 | 2,595 | 1,125,079 | 1,125,079 | 29,171 | 1,154,250
Louisiana | 339 | 99 | 9 | 48 |  | 495 | 214,610 | 214,610 | 5,564 | 220,174
Maine | 862 | 0 | 0 | 1 |  | 863 | 374,159 | 374,159 | 9,701 | 383,860
Maryland | 2,009 | 6 | 1,567 | 14 | 6 | 3,602 | 1,561,671 | 1,561,671 | 40,491 | 1,602,162
Massachusetts ⁴ | 2,832 | 91 | 514 | 18 | 4 | 3,459 | 1,499,672 | 1,499,672 | 38,884 | 1,538,556
Michigan | 1,835 | 607 | 0 | 52 | 5 | 2,499 | 1,083,458 | 1,083,458 | 28,092 | 1,111,550
Minnesota | 9,543 | 1 | 164 | 1 | 3 | 9,712 | 4,210,701 | 4,210,701 | 109,175 | 4,319,876
Mississippi | 24 | 5 | 0 | 8 |  | 37 | 16,042 | 75,000 | 1,945 | 76,945
Missouri | 2,238 | 20 | 119 | 10 | 3 | 2,390 | 1,036,200 | 1,036,200 | 26,867 | 1,063,067
Montana | 38 | 0 | 0 | 0 |  | 38 | 16,475 | 75,000 | 1,945 | 76,945
Nebraska | 815 | 1 | 0 | 2 |  | 818 | 354,649 | 354,649 | 9,195 | 363,844
Nevada ⁴ | 676 | 716 | 0 | 69 | 4 | 1,465 | 635,160 | 635,160 | 16,468 | 651,628
New Hampshire | 960 | 0 | 1 | 1 | 2 | 964 | 417,949 | 417,949 | 10,837 | 428,786
New Jersey | 576 | 164 | 0 | 375 | 7 | 1,122 | 486,450 | 486,450 | 12,613 | 499,063
New Mexico | 141 | 282 | 0 | 3 |  | 426 | 184,695 | 184,695 | 4,789 | 189,484
New York | 6,466 | 1,262 | 0 | 115 | 106 | 7,949 | 3,446,341 | 3,446,341 | 89,357 | 3,535,598
North Carolina | 3,073 | 9 | 418 | 65 | 1 | 3,566 | 1,546,063 | 1,546,063 | 40,086 | 1,586,149
North Dakota ⁴ | 457 | 0 | 6 | 0 |  | 463 | 200,737 | 200,737 | 5,205 | 205,942
Ohio | 4,801 | 1 | 180 | 6 | 2 | 4,990 | 2,163,447 | 2,163,447 | 56,094 | 2,219,541
Oklahoma | 169 | 0 | 36 | 1 | 52 | 258 | 111,858 | 11,858 | 2,900 | 114,758
Oregon | 2,715 | 420 | 66 | 3 | 1 | 3,205 | 1,389,549 | 1,389,549 | 36,028 | 1,425,577
Pennsylvania | 3,686 | 540 | 494 | 33 | 5 | 4,758 | 2,062,862 | 2,062,862 | 53,486 | 2,116,348
Rhode Island | 477 | 5 | 55 | 0 |  | 537 | 232,820 | 232,820 | 6,037 | 238,857
South Carolina | 292 | 0 |  | 16 |  | 308 | 133,535 | 133,535 | 3,462 | 136,997
South Dakota ⁴ | 814 | 0 | 0 | 4 |  | 818 | 354,649 | 354,649 | 9,195 | 363,844
Tennessee | 1,442 | 5 | 0 | 60 |  | 1,507 | 653,370 | 653,370 | 16,941 | 670,311
Texas | 5,365 | 1,337 | 431 | 99 | 61 | 7,293 | 3,161,928 | 3,161,928 | 81,983 | 3,243,911
Utah | 1,327 | 3 | 90 | 1 |  | 1,421 | 616,084 | 616,084 | 15,974 | 632,058
Vermont | 397 | 0 | 10 | 0 |  | 407 | 176,458 | 176,458 | 4,575 | 181,033
Virginia | 2,451 | 429 | 332 | 37 | 12 | 3,261 | 1,413,828 | 1,413,828 | 36,658 | 1,450,486
Washington | 9,348 | 0 | 0 | 7 | 7 | 9,362 | 4,058,956 | 4,058,956 | 105,241 | 4,164,197
West Virginia | 7 | 0 | 0 | 0 |  | 7 | 3,035 | 75,00 | 1,945 | 76,945
Wisconsin | 2,146 | 1 | 23 | 3 |  | 2,173 | 942,118 | 942,118 | 24,427 | 966,545
Wyoming ⁵ |  |  |  |  |  |  |  |  |  |
Total | 108,086 | 19,147 | 17,275 | 32,037 | 412 | 176,957 | 76,720,865 | 77,136,460 | 2,000,000 | 79,136,460
¹ Includes Amerasian immigrants. Adjusted for secondary migration.
² Asylee counts are submitted by States and verified by matching against data from the Department of Justice/Executive Office of Immigration Review, and the U.S. Citizenship and Immigration Service.
³ For all years, Havana Parolee arrivals for all States are based on actual data.
⁴ The allocations for the States of Alabama, Alaska, Colorado, Idaho, Kentucky, Massachusetts, Nevada, North Dakota, and South Dakota, and for the county of San Diego, California are expected to be awarded to Wilson/Fish projects.
⁵ Wyoming no longer participates in the Refugee Resettlement Program.

[FR Doc. 05-10674 Filed 5-26-05; 8:45 am]

BILLING CODE 4184-01-P